DEPARTMENT OF AGRICULTURE

Office of the Secretary

Privacy Act of 1974; Farm Records File (Automated) System of Records

AGENCY: Department of Agriculture (USDA).

ACTION: Notice of revision to Privacy Act system of records.

SUMMARY: This notice proposes to revise the Privacy Act System of Records titled Farm Records File (Automated) USDA/FSA-2. The records include information about the majority of agricultural producers in the United States. In general, the Farm Service Agency (FSA) proposes to revise the system of records to make minor corrections and updates to meet additional requirements.

DATES: We will consider comments that we receive on or before April 13, 2012. The revised system of records and routine uses will become effective 40 days after publication, on April 23, 2012, unless modified by a subsequent notice to incorporate changes resulting from public comments.

ADDRESSES: We invite you to submit comments on this notice. In your comment, include the system of records number (USDA/FSA-2). You may submit comments by any of the following methods:

• Federal e-Rulemaking Portal: http://www.regulations.gov. Follow the instructions for submitting comments.

• Mail: Virginia Haynes, PECD FSA USDA, 1400 Independence Ave. SW., Mail Stop 0517, Department of Agriculture, Washington, DC 20250-0517.

• Hand Delivery or Courier: Deliver comments to the above address.

Instructions: All comments will be made public by USDA and will be posted without change to http://www.regulations.gov, including any personal information provided.

FOR FURTHER INFORMATION CONTACT: For general questions, contact: Virginia Haynes, (202) 690-2798. For privacy issues, contact: Ravoyne Payton, (202) 720-8755. Persons with disabilities who require alternative means for communication (Braille, large print, audio tape, etc.) should contact the USDA Target Center at (202) 720-2600 (voice and TDD).

SUPPLEMENTARY INFORMATION: FSA maintains the Farm Records File (Automated) USDA/FSA-2 Privacy Act (5 U.S.C. 552a) system of records to collect and manage information about the majority of agricultural producers in the United States. The mission of FSA is to deliver Federal farm program benefits and loans to farm and ranch owners and operators to support farms and ranches, protect the environment, and enhance the marketing of agricultural products. The system of records covers information regarding farm and ranch owners, operators, tenants, borrowers, and other agricultural producers.

FSA proposes to revise the current designations in USDA/FSA-2 from a numbered routine use designation to a lettered designation and to reorder the current routine uses. In addition, FSA proposes to revise 14 existing routine uses, delete 2 unnecessary routine uses, establish 6 new routine uses, and make miscellaneous corrections throughout the system of records notice to update and better reflect the information in the system of records and to update the system of records notice to comply with the Agricultural Risk Protection Act of 2000 (7 U.S.C. 1515(j)), the Federal Funding Accountability and Transparency Act (31 U.S.C. 6101-6104), similar laws, and to comply with new requirements of the confidentiality provisions in section 1619 (7 U.S.C. 8791(b)) of the Food, Conservation, and Energy Act of 2008 (Pub. L. 110-246; referred to as the 2008 Farm Bill). Section 1619(b) of the 2008 Farm Bill prohibits disclosure of information concerning an agricultural operation, farming or conservation practice, or the land itself that agricultural producers or owners of agricultural land provide in order to participate in USDA programs; there are certain limited exceptions.

FSA proposes to (1) revise currently designated routine uses to lettered designations and reorder the routine uses; (2) revise currently designated routine uses 1 through 8, 10 through 23, and 25; (3) delete currently designated routine uses 9 and 24; and (4) add six new routine uses to be designated as routine uses A, C, D, F, Z, and BB. The revised designations and order are shown in the following table, listed in the new order:

Redesignated routine use letter | Former routine use No. | Status (new, revised, redesignated, or deleted)
A |  | new.
B | 4 | revised.
C |  | new.
D |  | new.
E | 25 | revised.
F |  | new.
G | 2 | revised.
H | 1 | redesignated.
I | 5 | redesignated.
J | 6 | redesignated.
K | 7 | revised.
L | 8 | revised.
M | 10 | redesignated.
N | 11 | revised.
O | 12 | redesignated.
P | 13 | revised.
Q | 14 | redesignated.
R | 15 | redesignated.
S | 16 | redesignated.
T | 17 | revised.
U | 18 | revised.
V | 19 | redesignated.
W | 20 | revised.
X | 21 | revised.
Y | 22 | revised.
Z |  | new.
AA | 23 | revised.
BB |  | new.
CC | 3 | revised.
| 9 | deleted.
| 24 | deleted.

Proposed New Routine Use A

FSA is adding new routine use A to establish that FSA will disclose the records to the Department of Justice (including United States Attorney Offices) or other Federal agency when certain conditions are met.

Proposed New Routine Use C

FSA is adding a new routine use C to establish that FSA will disclose the records to the National Archives and Records Administration or to the General Services Administration for records management program purposes pursuant to 44 U.S.C. 2906(a)(1).

Proposed New Routine Use D

FSA is adding a new routine use D to establish that FSA will disclose the records to an agency, organization, or individual that is required for performing audit or oversight operations as authorized by law.

Proposed New Routine Use F

FSA is adding a new routine use F to establish that FSA will disclose the records to contractors and their agents, grantees, experts, consultants, and others performing or working on a contract, grant, cooperative agreement, or other assignment for USDA when certain conditions are met.

Proposed Revised Routine Use T (Formerly Routine Use 17)

FSA is revising the routine use to clarify that disclosure of records to members of Congress can include the names and specifically the correspondence addresses of all producers in the system of records rather than just the name and correspondence address of producers that are recipients of a USDA program payment.

Proposed Revised Routine Use U (Formerly Routine Use 18)

FSA is revising the routine use to clarify that FSA will disclose the names and correspondence addresses of producers who have FSA or Commodity Credit Corporation (CCC) commodity loans to the public when they need to prevent one of those producers from purchasing a commodity that has been placed under a CCC loan. This change specifies that the addresses that we will disclose will be the producer's correspondence address.

Proposed Revised Routine Use W (Formerly Routine Use 20)

FSA is revising the routine use to limit the disclosure of records to only those State-certified or State-licensed appraisers and employees of Federal agencies other than USDA who are actually performing real estate appraisals for USDA. This revision ensures the routine use is consistent with 7 U.S.C. 8791(b) and as such disclosure of information will be limited to the information needed when State-certified or State-licensed appraisers are providing technical or financial assistance with respect to the agricultural operation, agricultural land, or farming or conservation practice (7 U.S.C. 8791(b)(3)(A)). In addition, FSA is removing the specific list of information that was able to be disclosed through the routine use.

Proposed Revised Routine Use X (Formerly Routine Use 21)

FSA is revising the routine use to limit disclosure of records to only Federal, State, local, Tribal agencies, and State universities, or those persons working in cooperation with the USDA Secretary in any Department program. In addition, FSA is removing the specific list of information that was able to be disclosed through the routine use.

Proposed Revised Routine Use Y (Formerly Routine Use 22)

FSA is revising the routine use to clarify the disclosure of certain electronic records in this system of records through incorporation of the records into the Comprehensive Information Management System (CIMS). Previously, routine use number 22 referred to RMA and the CIMS contractors as well as Approved Insurance Providers (AIPs), however they did not have the same access to the information in CIMS. The routine use now clearly provides full disclosure to RMA and CIMS contractors; this disclosure is in accordance with 7 U.S.C. 8002(b)(5). The routine use also limits disclosure to AIPs to only the producer reported information that is associated with the AIP's insured producers and that insured producer's farming operations and limits disclosure of Common Land Unit (CLU) information to a defined data set that will be provided only for those States in the AIP plan of operation.

RMA and FSA have executed a memorandum of understanding for sharing program specific data included in USDA/FSA-2, Farm Records File (Automated). As sister Federal agencies, RMA and FSA comply with the Privacy Act and ensure their contractors do the same. Specifically, as agreed to in the Memorandum of Understanding between FSA and RMA for sharing this data for the Data Mining Project, all program data collected and handled by either RMA or FSA will be treated with the full security requirements of current Federal legislation, Office of Management and Budget (OMB) memoranda, USDA departmental regulations, and USDA cyber security policies. Only those employees and contractors (or persons otherwise acting as agents) with a need to know will be provided access to such data. RMA has a current Privacy Impact Assessment for the system of records.

In addition, FSA is removing the specific list of information that was able to be disclosed through the routine use.

Proposed New Routine Use Z

FSA is adding a new routine use Z to specify that FSA will disclose the records to RMA contractors for use in the USDA data warehouse and data mining operation. RMA will use the information to search or “mine” existing data records to compare insurance policies and detect individual producers whose policies demonstrate atypical patterns, which sometimes indicate fraudulent activity or possible breach of policy terms. Data mining may also be used to analyze and uncover larger national patterns that may indicate patterns of fraud, waste, and abuse. The data mining operation is authorized by the Agricultural Risk Protection Act of 2000 (7 U.S.C. 1515(j)). This limited disclosure is within FSA's mandate to promote viable agriculture economy, and is necessary and appropriate for effective implementation of USDA programs.

Under this new routine use, RMA may provide data to AIPs, agents, or loss adjusters for the AIP's specific policyholders if analyses produced from the data mining operation reveal:

(1) Material contradictions in data reported to FSA and RMA; or

(2) A possible breach of policy terms.

FSA and RMA have entered into a memorandum of understanding in which RMA accepts responsibility for the security of privacy protected data, including information going to RMA's contractors, partners, and AIPs. RMA has certified that it will adhere to Federal Government data security statutes and regulations and that the data mining operation has a currently operative and approved security Certification and Accreditation in place. RMA has a current Privacy Impact Assessment for the system of records.

All information collected from customers by the AIPs for the Federal crop insurance program, as well as information received by AIPs from RMA, is covered by the provisions of the Privacy Act as the AIPs are contractually obligated to adhere to the Privacy Act. AIPs are accustomed to working with, and protecting, such information.

Proposed Revised Routine Use AA (Formerly Routine Use 23)

FSA is revising the routine use to clarify that records will only be disclosed to AIPs (excluding the AIP's insurance agents) and loss adjusters that request the information as required. The requester needs to specify the producer, the producer's identification number, and the type of information being requested. FSA will disclose records as requested that may include: the producer's names, crop name, County FSA Office address, program years, and the last 4 digits of tax ID number. In addition, upon request, FSA may disclose a copy of both current and prior Producer Print and Map Photocopies; Farm Operating Plan for Payment Eligibility Review for an Individual; and Highly Erodible Land Conservation (HELC) and Wetland Conservation (WC) Certification. In addition, as discussed above, FSA is removing the specific categories of information that FSA routinely shares with AIPs, their insurance agents, and loss adjusters.

Proposed New Routine Use BB

FSA is adding a new routine use BB to permit FSA to disclose names, locations, and award information identified by the Federal Funding Accountability and Transparency Act of 2006 (31 U.S.C. 6101-6104); section 204 of the E-Government Act of 2002 (44 U.S.C. 3501 note), and the Office of Federal Procurement Policy Act (41 U.S.C. 403-440), or similar laws requiring agencies to make information publicly available concerning Federal financial assistance, including grants, sub-grants, loan awards, cooperative agreements and other financial assistance; and contracts, subcontracts, purchase orders, task orders, and delivery orders. This routine use will explicitly allow FSA to disclose records to the public as specified by those laws.

Proposed Revised Routine Use CC (Formerly Routine Use 3)

FSA is revising the routine use to clarify when the records will be disclosed. FSA will disclose the records to a court or adjudicative body in a proceeding not just when any record within the system of records constitutes evidence in a proceeding, or is sought in the course of discovery for records relevant to the subject of the proceeding. For FSA to disclose the information USDA must have reviewed the information and determined that it is both relevant and necessary to the litigation and USDA determined the use is for a purpose that is compatible with the purpose for which FSA collected the records. Further, FSA will only disclose the information when one of the following is a party to the litigation: FSA or any part of FSA, any FSA employee in an official capacity, or any FSA employee in an individual capacity if USDA has agreed to represent the employee, or the U.S. Government.

Deleted Routine Use 9

FSA is deleting routine use number 9. The deleted routine use addressed disclosure of information to the USDA Food Safety and Inspection Service. Because any such disclosure is intra-agency, it is already permitted as specified in the Privacy Act (see 5 U.S.C. 552a(b)(1)) and therefore the disclosure does not require a routine use.

Deleted Routine Use 24

FSA is deleting routine use number 24. The deleted routine use addressed disclosure of information to cooperating Federal, State, and local agencies, including State universities who are qualified to implement hurricane disaster programs or analyze the sugar industry. FSA is deleting routine use 24 because the releases permitted in routine use 24 are now included in the proposed revision to routine use X (which had been routine use 21).

Privacy Act

As required by the Privacy Act (specifically 5 U.S.C. 552a(r)) and implemented by the Office of Management and Budget (OMB) Circular A-130, USDA has provided a report of this system of records to the Office of Information and Regulatory Affairs, Office of Management and Budget; the Chairman, Committee on Government Reform and Oversight, House of Representatives; and the Chairman, Committee on Governmental Affairs, United States Senate on ________.

SYSTEM OF RECORDS

USDA/FSA-2

System name:

Farm Records File (Automated).

Security classification:

Unclassified.

System location:

This system of records is under the control of the Deputy Administrator for Farm Programs, Farm Service Agency (FSA), 1400 Independence Avenue SW., Stop 0539, Washington, DC 20250-0539.

Records are maintained at the FSA county offices, the FSA State offices, the FSA National office, the FSA Aerial Photography Field Office, the FSA Kansas City Commodity Office, and the USDA National Information Technology Center. The address of each FSA county office and FSA State office can be found in the local telephone directory under the heading “United States Government, Department of Agriculture, Farm Service Agency.” The FSA Aerial Photography Field Office is located in Salt Lake City, UT. The FSA Kansas City Commodity Office and the USDA National Information Technology Center are located in Kansas City, MO.

Categories of individuals covered by the system:

Farm and ranch owners, operators, tenants, borrowers, and other agricultural producers.

Categories of records in the system:

The information in the system of records consists of electronic and hard copy documentation of participation in FSA programs, including active programs as well as discontinued programs. This includes names and addresses of producers and also includes, but is not limited to:

• Farm allotments, quotas, bases, and history;

• Compliance data; producer entity data;

• Combined producer data; production and marketing data;

• Lease and transfer of allotments and quotas;

• Appeals;

• New grower applications;

• Conservation program documents;

• Program participation and payment documents, including information related to a person's indirect interest in payments through shares or interest in a payee entity;

• Appraisals, leases, and data for farm reconstitution; and

• For payment limitation and conservation compliance purposes: financial statements, and other applicable farm information such as tax statements, wills, trusts, partnership agreements, and corporate charters.

The geospatial (GIS) data set contains producer boundaries of CLUs, farms, tracts, field identifiers and attributes used to identify the location of land that can be traced back to a producer's crops and benefits. By definition, a CLU identifies a farm's subdivisions and boundaries and is recommended as the common location identifier for reporting acreage.

Digital renditions of farm record boundaries include farm, tract, CLUs (fields), and personal attributes of that property including, but not limited to, cropland designation, wetland location, program participation designation (for example, Conservation Reserve Program or CRP), and presence of structures located on a property (for example, buildings, well heads, or other identifying structures).

Crop Acreage Data are used to promote a viable agriculture economy essential to effectively administering and enforcing the national crop insurance program and for the purpose of fulfilling loss adjustment obligations as well as audits and reviews of claims.

Specific automated systems processing the records include, but are not limited to:

• Acreage Reporting and Compliance Systems,

• Ag Credit System,

• Automated Price Support System,

• Average Crop Revenue Elections,

• Asparagus Revenue Market Loss Assistance,

• Cash Systems,

• COC Elections Systems,

• Commodity Management Systems,

• Commodity Operation Systems,

• Common Farm Programs Systems,

• Conservation Systems,

• Consolidated Farm Loan Program Information and Delivery System,

• Consolidated Financial Management Information Systems,

• Consolidated Natural Disaster Relief Programs,

• Consolidated Management System,

• Cooperative Marketing Association System,

• Cotton Management System,

• Customer Name and Address Systems,

• Dairy Disaster Assistance Program,

• Debt Systems,

• Direct Counter-Cyclical Enrollment and Payment Systems,

• Direct Loan Systems,

• Domestic Electronic Bid Entry System,

• Electronic Debt and Loan Restructuring System,

• Electronic Distribution of Disbursement Data,

• Enterprise Data Warehouse,

• Facility Loans Systems,

• Farm Business Plan Web Equity Manager,

• Farm Loan Programs Risk Assessment,

• Farm Programs Management Systems,

• Financial Management Systems,

• General Sales Manager Export Credit Guarantee System,

• Geographic Information Services (GIS),

• GIS Thin Client System,

• Grain Inventory Management System,

• Management of Ag Credit System,

• Market Loss Assistance Program,

• Milk Income Loss Contract,

• Natural Disaster Relief,

• Noninsured Crop Disaster Assistance Program,

• Payment Systems,

• Price Support Systems,

• Processed Commodities Inventory Management System,

• Program Loan Accounting System,

• Representative Link Manager System,

• Service Center Information Management System,

• Subsidiary Systems,

• Tobacco Transition Payment Program,

• Trade Adjustment Assistance, and

• Web-Based Supply Chain Management System.

Authority for maintenance of the system:

7 U.S.C. 450j, 450k, 450l, 1281-1393, 1421-1449, 1471-1472; 15 U.S.C. 714-714p; 16 U.S.C. 590a-590q, 1301-1311, 1606, 2101-2111, 2201-2206, 3501, 3801-3845, 4601, 26 U.S.C. 6109; 40 U.S.C. 14101, 14505, and 43 U.S.C. 1592.

Purpose(s):

To deliver Federal farm program benefits and loans legislated by Congress to farm and ranch owners and operators to support farms and ranches, protect the environment, and enhance the marketing of agriculture products.

Routine uses of records maintained in the system, including categories of users and the purposes of such uses:

Records or information contained in this system of records may be disclosed outside USDA as a routine use (see 5 U.S.C. 552a(b)(3)) as follows:

A. To the Department of Justice when:

1. USDA or any part of USDA;

2. Any USDA employee in an official capacity if the Department of Justice has agreed to represent the employee; or

3. The United States Government is a party to litigation or has an interest in such litigation, and by careful review, USDA determines that the records are both relevant and necessary to the litigation and the use of such records by the Department of Justice is therefore deemed by USDA to be for a purpose that is compatible with the purpose for which FSA collected the records.

B. To a Member of Congress or to a Congressional staff member in response to a request of the Congressional office made at the written request of the constituent about whom the record is maintained.

C. To the National Archives and Records Administration or to the General Services Administration, for records management inspections conducted as specified in 44 U.S.C. 2904 and 2906.

D. To an agency, organization, or individual for the purpose of performing audit or oversight operations as authorized by law, but only such information as is necessary and relevant to the specific audit or oversight.

E. To appropriate agencies, entities, and persons when:

1. USDA suspects or has confirmed that the security or confidentiality of information in the system of records has been compromised;

2. USDA has determined that as a result of the suspected or confirmed compromise there is a risk of harm to economic or property interests, identity theft or fraud, or harm to the security or integrity of this system of records or other systems or programs (whether maintained by USDA or another agency or entity) or harm to the individuals that rely on the information; and

3. The disclosure made to such agencies, entities, and persons is reasonably necessary to assist in connection with USDA's efforts to respond to the suspected or confirmed compromise and prevent, minimize, or remedy such harm.

F. To contractors, grantees, experts, consultants, and their agents, and others performing or working on a contract, grant, cooperative agreement, or other assignment for USDA, when necessary to accomplish a USDA function related to this system of records. Individuals provided information under this routine use are subject to the same Privacy Act requirements and limitations on disclosure as are applicable to USDA officers and employees.

G. When a record on its face, or in conjunction with other records, indicates a violation or potential violation of law, whether civil, criminal, or regulatory in nature, and whether arising by general law or particular program law, or by regulation, rule, or order issued as a result of that law, disclosure may be made to the appropriate agency, whether Federal, foreign, State, local, or Tribal, or other public authority responsible for enforcing, investigating, or prosecuting such violation or charged with enforcing or implementing the law, or rule, regulation, or order issued as a result of that law, if the information disclosed is relevant to any enforcement, regulatory, investigative, or prosecutive responsibility of the receiving entity.

H. To a cooperative marketing association (CMA), designated marketing association (DMA), or loan servicing agent (LSA) approved to carry out Commodity Credit Corporation (CCC) price support loan and marketing programs. Records that will be disclosed include only data that is necessary for the CMA, DMA, or LSA to make producer eligibility determinations, reasonable quantity determinations, producer payment limitations, and denied benefit determinations.

I. To the Internal Revenue Service to establish the tax liability of individuals as required by the Internal Revenue Code.

J. To State or local tax authorities having an agreement with CCC to withhold taxes or fees from loan proceeds.

K. To the Department of Interior, Bureau of Reclamation (BOR), but only that data necessary for the BOR to administer the Reclamation Act of 1982, as amended.

L. To boards or other entities authorized by State law to collect commodity assessments.

M. To the Peanut Board, with respect to producers of peanuts and their participation in the peanut price support program.

N. To the Department of Interior, Bureau of Indian Affairs, the name and correspondence address of producers to assist in the distribution of funds to Native American Indians.

O. To candidates for FSA county committee positions, the names and correspondence addresses of producers in the county for the purpose of county committee elections.

P. To the public, farm allotment and quota data for marketing quota crops, as allowed by the Agricultural Act of 1938, as amended, and payment information for farm and related programs including information of indirect benefits from payments as indicated by shares of each individual or entity that receive payments or that themselves are considered to have an indirect interest in payments.

Q. To State Foresters, the names and correspondence addresses of producers and crop-specific data regarding their operations with respect to forestry conservation practices.

R. To cotton buyers, the name and correspondence address of cotton producers.

S. To cotton ginners, the names, correspondence addresses, farm numbers, cotton yields, and cotton acreages of cotton producers.

T. To members of Congress, the names and correspondence addresses of all producers in the system of records.

U. To the public when they need to obtain the names and correspondence addresses of producers who have commodity loans with FSA or CCC to prevent one of those producers from purchasing a commodity that has been placed under a CCC loan.

V. To State or local taxing authorities or their contracted appraisal companies, the name and correspondence address of producers for tax appraisal purposes.

W. To State-certified or State-licensed appraisers and employees of Federal agencies qualified to perform and actually performing real estate appraisals for USDA. Records that will be disclosed include only the data that is necessary for the appraiser to complete the appraisal.

X. To cooperating persons or Federal, State, local, or Tribal agencies working in cooperation with the Secretary in any USDA program. Records that will be disclosed include only the data that is necessary for the cooperating person or agency to complete work on the USDA program.

Y. To any Federal agency or any approved insurance provider (AIP), the information collected using the Comprehensive Information Management System (CIMS) used to administer the programs of FCIC and FSA as specified in 7 U.S.C. 8002(b)(2). All information disclosed to CIMS may be further disclosed to any contractor engaged in the development or maintenance of CIMS. Select CIMS data may also be further disclosed to AIPs and AIP employees, insurance agents, and loss adjusters, but will be limited to only the producer reported information that is associated with a given AIP's insured producers and that insured producer's farming operations (for data to be disclosed, the producer must actually be insured by the given AIP). For the disclosure of CLU information, CIMS will provide the AIP a limited file of CLU information containing data elements for those States in the AIP plan of operation to include Shape, (CLU boundaries), Location State Code, Location County Code, Administrative State Code, Administrative County Code, CLU Number, CLU Calculated Acres, CLU Class, Last Change Date, Common Land Unit Identifier, Farm Number, Tract Number, and Field Number information. The limited CLU data set provided to the AIP will not contain data reported to FSA by the producer via the FSA-578 (for example, planted acres, name, address, crops, etc.).

Z. To any Federal agency or any AIP, the information in the USDA data warehouse and data mining operation collected as authorized by the Agricultural Risk Protection Act of 2000 (7 U.S.C. 1515(j)). All information disclosed to the USDA data warehouse and data mining operation may be further disclosed to any contractor engaged in the development or maintenance of the USDA data warehouse and data mining operation. Select data may also be further disclosed to AIPs and AIP employees, insurance agents, and loss adjusters. Disclosure is limited to only the producer reported information that is associated with a given AIP's insured producers and that insured producer's farming operations (for data to be disclosed, the producer must actually be insured by the given AIP).

AA. To the AIPs (excluding the AIP's insurance agents) and loss adjusters. USDA will disclose records that may include the producer's name, crop name, County FSA Office address, program years, and the last 4 digits of producer's tax ID number. USDA may disclose a copy of both current and prior Producer Print and Map Photocopies, Farm Operating Plan for Payment Eligibility Review for an Individual, Highly Erodible Land Conservation (HELC), and Wetland Conservation (WC) Certification. Disclosure will be made only in response to a properly submitted request for certain information.

BB. USDA will disclose information about individuals from this system of records in accordance with the Federal Funding Accountability and Transparency Act of 2006 (31 U.S.C. 6101-6106); section 204 of the E-Government Act of 2002 (44 U.S.C. 3501 note), and the Office of Federal Procurement Policy Act (41 U.S.C. 403-440), or similar laws requiring agencies to make available publicly names, locations, and other information concerning Federal financial assistance, including grants, subgrants, loan awards, cooperative agreements, and other financial assistance; and contracts, subcontracts, purchase orders, task orders, and delivery orders.

CC. To a court or adjudicative body in a proceeding when:

1. USDA or any part of USDA;

2. Any USDA employee in an official capacity;

3. Any USDA employee in an individual capacity if USDA has agreed to represent the employee; or

4. The United States Government is a party to litigation or has an interest in such litigation, and by careful review, USDA determines that the records are both relevant and necessary to the litigation and the use of such records is therefore deemed by USDA to be for a purpose that is compatible with the purpose for which FSA collected the records.

Disclosure to consumer reporting agencies:

None.

Policies and practices for storing, retrieving, accessing, retaining, and disposing of records in the system:

Records in this system of records are stored electronically on security measure protected (for example, e-authentication, password, restricted access protocol, etc.) databases, electronically on e-media devices (computer hard drive, magnetic disc, tape, digital media, CD, DVD, etc.), and on paper copy. Record storage is located within secured or locked facilities.

Storage:

See “Policies and practices for storing, retrieving, accessing, retaining, and disposing of records in the system” above.

Retrievability:

Records may be retrieved by the individual's name, Social Security Number, tax identification number, loan number, and farm number.

Safeguards:

Records in this system of records are safeguarded in accordance with applicable rules and policies, including all applicable USDA automated systems security and access policies. Strict controls have been imposed to minimize the risk of compromising the information that is being stored. Access to the computer systems containing the records in this system of records is limited to those individuals who have a need to know the information for the performance of their official duties and who have appropriate clearances or permissions.

Retention and disposal:

Records are maintained in file folders and Department computer systems at applicable locations as set out above under the heading “System Location.” Detailed retention and disposal instructions are provided in Records Control Schedule RG 0145: Farm Service Agency and Records Control Schedule RG 0161: Commodity Credit Corporation.

System manager and address:

Deputy Administrator for Farm Programs, FSA, 1400 Independence Avenue SW., Stop 0539, Washington, DC 20250-0539.

Notification procedure:

An individual may request information regarding this system of records or information as to whether the system contains record pertaining to the individual from the System Manager above.

Records Access Procedure:

To request notification of and access to any record contained in the system of records, or to contest the content of a record, submit a request in writing to the FSA FOIA officer or the FOIA officer for the relevant part of USDA responsible for your information (contact information is at http://www.da.usda.gov/foia.htm under “Where to Send Requests”). If you believe more than one USDA agency maintains Privacy Act records concerning you, submit the request to the Chief FOIA Officer, Department of Agriculture, 1400 Independence Avenue SW., Washington, DC 20250.

When seeking records about yourself from this system of records or any other Departmental system of records, your request must conform with the Privacy Act regulations in 7 CFR 1.110-1.122, as follows. Verify your identity by providing your full name, current address, and date and place of birth. You must sign your request, and your signature must either be notarized or submitted under 28 U.S.C. 1746, which is a law that permits statements to be made under penalty of perjury as a substitute for notarization. While no specific form is required, you may obtain forms for this purpose from the Chief FOIA Officer, Department of Agriculture, 1400 Independence Avenue SW., Washington, DC 20250. In addition, you should provide the following:

• Explain why you believe USDA would have information on you,

• Identify which USDA agency you believe may have the information about you,

• Specify when you believe the records would have been created, and

• Provide any other information that will help the FOIA staff determine which USDA component agency may have responsive records.

If your request is seeking records pertaining to another living individual, you must include a statement from that individual certifying agreement for you to access the records.

If your request does not include the information specified above, FSA may not be able to conduct an effective search, and may result in your request being denied due to lack of specificity or lack of compliance with applicable regulations.

Contesting record procedures:

Individuals desiring to contest or amend information maintained in the system should direct their request to the above listed System Manager and should include the reason for contesting it and the proposed amendment to the information with supporting information to show how the record is inaccurate. A request for contesting records pertaining to an individual should contain: Name, address, ZIP code, name of system of record, year of records in question, and any other pertinent information to help identify the file.

Record source categories:

Information in this system of records is submitted by FSA State and county committees and their representatives, the Office of Inspector General and other investigatory agencies, the Office of General Counsel, the Kansas City Commodity Office, the Natural Resources and Conservation Service, by third parties, and by the individual who is the subject of the record.

Exemptions claimed for the system:

None.

Dated: February 28, 2012.
Thomas J. Vilsack,
Secretary.

PRIVACY ACT SYSTEM USDA/FSA-2 FARM RECORDS FILE (AUTOMATED) REVISED NARRATIVE STATEMENT

The Farm Service Agency (FSA) maintains the Farm Records File (Automated) USDA FSA-2 Privacy Act (5 U.S.C. 552a) system of records to collect and manage information about the majority of agricultural producers in the United States. The purpose of this system is to deliver Federal farm program benefits and loans to farm and ranch owners and operators to support farms and ranches, protect the environment, and enhance the marketing of agricultural products. This system of records covers information regarding farm and ranch owners, operators, tenants, borrowers, and other agricultural producers.

The purposes of revising the USDA/FSA-2 Farm Records File (Automated) system of records are to: (a) establish new routine uses, (b) make minor corrections to other routine uses, (c) update to meet current Privacy Act requirements, and (d) revise the designations of routine uses from a numbered list to a lettered list and reorder the routine uses. One substantive change is to establish a new routine use to allow us to share data with the Risk Management Agency for the Data Mining Project. Also, section 1619 of the 2008 Farm Bill limits disclosure by the Department of information provided by an agricultural producer or owner of agricultural land concerning the agricultural operation, farming or conservation practices, or the land itself, in order to participate in programs of the Department that is contained in the system.

Specifically, FSA is revising 23 existing routine uses (6 with substantive changes and 17 are only being revised or redesignated), removing 2 unnecessary routine uses, and establishing 6 new routine uses. A “routine use” identifies individuals, groups, and entities to whom USDA may disclose the information in the attached system of records and under what circumstances such disclosures may be made.

The system discloses routinely to various agencies (Federal, State, local), associations, organizations, entities information on USDA programs, operations and services information, to Congress information related to Congressional written requests to USDA, to the Department of Justice information on USDA records for litigations, to the Internal Revenue Service information on USDA employee's tax information, to the Department of Interior information on USDA land data and funding to Native American Indians, to the USDA Risk Management Agency information on USDA data warehouse, data mining operation, and Comprehensive Information Management System, to the National Archives and Records Administration information on USDA records, to FSA employees personnel information, and to contractors information on working performance in certain USDA functions. New routine uses for disclosure of records to share FSA data as described in the system of records are compatible with the purpose of both FSA and RMA activities in using the information.

All information contained in this system is collected and maintained in accordance with the Privacy Act, Title 5, United States Code, Section 552a. The authorities for maintenance of the system are 7 U.S.C. 450j, 450k, 450l, 1281-1393, 1421-1449, 1471-1472; 15 U.S.C. 714-714p; 16 U.S.C. 590a-590q, 1301-1311, 1606, 2101-2111, 2201-2206, 3501, 3801-3845, 4601, 26 U.S.C. 6109; 40 U.S.C. 14101, 14505, and 43 U.S.C. 1592.

The Privacy Act system of records affects the privacy interests of individual producers whose information is contained in them. The privacy interests of the affected individual producers are more than “de minimis,” because the Privacy Act system of records contains detailed information about their farming operations and assets. However, USDA has determined that the routine uses and maintenance of this information are warranted. The privacy interests of these producers are balanced with: (1) The benefits that the producers receive as program recipients and (2) the need of the Government to detect fraud and abuse as it administers USDA programs.

Records in this system of records are safeguarded in accordance with applicable rules and policies, including all applicable USDA automated systems security and access policies. Strict controls have been imposed to minimize the risk of compromising the information that is being stored. Access to the computer systems containing the records in this system of records is limited to those individuals who have a need to know the information for the performance of their official duties and who have appropriate clearances or permissions.

Additionally, records in this system of records are stored electronically on security measure protected (for example, e-authentication, password, restricted access protocol, etc.) databases, electronically on e-media devices (computer hard drive, magnetic disc, tape, digital media, CD, DVD, etc.), and on paper copy. Record storage is located within secured or locked facilities.

A new routine use for disclosure of record to share FSA data with RMA as described in the system of records is compatible with the purpose of both FSA and RMA activities in using the information.

The information collection requests associated with this system were submitted to the Office of Management and Budget (OMB) for Paperwork Reduction Act in the following table, which contained each OMB control number with the expiration date.

OMB Control No. | Expiration date | Agency and other information (Agency, Title, and relevant notes if any)
0348-0046 | 12/31/13 | OMB
0551-0040 | 06/30/13 | USDA Foreign Agricultural Service (FAS)
0560-0004 | 01/31/12 | USDA Farm Service Agency (FSA)
0560-0026 | 12/31/13 | FSA
0560-0082 | 7/31/2011 | FSA
0560-0175 | 01/31/14 | FSA
0560-0183 | 07/31/12 | FSA
0560-0185 | 06/30/13 | FSA
0560-0190 | 12/31/13 | FSA
0560-0215 | 10/31/11 | FSA
0560-0253 | 10/31/11 | FSA
0563-0053 | 03/31/2012 | Risk Management Service (Automated System)
0581-0093 | 05/31/2014 | Agricultural Marketing Service

[FR Doc. 2012-6090 Filed 3-13-12; 8:45 am]

BILLING CODE 3410-15-P